DEPARTMENT OF DEFENSE

Department of the Navy

Notice of Revised Deadline for Scoping Comments for the Environmental Impact Statement (EIS)/Overseas Environmental Impact Statement (OEIS) for the Relocation of U.S. Marine Corps Forces to Guam, Enhancement of Infrastructure and Logistic Capabilities, Improvement of Pier/Waterfront Infrastructure for Transient U.S. Navy Nuclear Aircraft Carrier (CVN) at Naval Base Guam, and Placement of a U.S. Army Ballistic Missile Defense (BMD) Task Force in Guam

AGENCY: Department of the Navy, DoD.

ACTION: Notice of Revised Deadline for Scoping Comments for the Environmental Impact Statement (EIS)/Overseas Environmental Impact Statement (OEIS) for the relocation of U.S. Marine Corps forces to Guam, enhancement of infrastructure and logistic capabilities, improvement of pier/waterfront infrastructure for transient U.S. Navy Nuclear Aircraft Carrier (CVN) at Naval Base Guam, and placement of a U.S. Army Ballistic Missile Defense (BMD) Task Force in Guam.

SUMMARY: The Department of the Navy is revising the deadline for Scoping Comments. The Notice of Intent establishing the original scoping period was published in the Federal Register on March 07, 2007 (Vol. 72, No. 44, p. 10186). The impacts of Typhoon Kong-Rey necessitates extension of the written public scoping comment deadline. The written public scoping comment deadline, originally scheduled for May 01, 2007 is extended until May 21, 2007.

Dates And Addresses: The Department of the Navy will accept written comments on the EIS scope postmarked by May 21, 2007. Comments should be mailed to: JGPO, c/o NAVFAC Pacific, 258 Makalapa Drive, Suite 100, Pearl Harbor, HI 96860-3134, Attention: EV2.

FOR FURTHER INFORMATION CONTACT: Captain Robert Lee, Commander, Navy Region Marianas, PSC 455 Box 152, FPO AP, Guam 96540, telephone 671-339-6156, E-mail at: Robert.Lee@guam.navy.mil.

Dated: 1 May 2007.
M.A. Harvison,
Lieutenant Commander, Judge Advocate General's Corps, U.S. Navy, Federal Register Liaison Officer.

[FR Doc. E7-8571 Filed 5-3-07; 8:45 am]

BILLING CODE 3810-FF-P